DEPARTMENT OF HEALTH AND HUMAN SERVICES

National Institutes of Health

Center for Scientific Review; Amended Notice of Meeting

Notice is hereby given of a change in the meeting of the Center for Scientific Review Special Emphasis Panel, June 29, 2006, 8:30 a.m. to June 30, 2006, 5 p.m., Morrison House, 116 S. Alfred Street, Alexandria, VA 22314 which was published in the Federal Register on May 31, 2006, 71 FR 30946-30948.

The meeting will be held at One Washington Circle Hotel, One Washington Circle, Washington, DC 20037. The meeting dates and time remain the same. The meeting is closed to the public.

Dated: June 8, 2006.
Anna Snouffer,
Acting Director, Office of Federal Advisory Committee Policy.

[FR Doc. 06-5478 Filed 6-15-06; 8:45 am]

BILLING CODE 4140-01-M